ENVIRONMENTAL PROTECTION AGENCY

[FRL-7584-3]

Office of Solid Waste and Emergency Response (OSWER) Internship Assistance Agreement Competition: Solicitation Notice

SUMMARY: This document solicits cooperative agreement proposals from educational institutions and non-profit organizations that are interested in obtaining EPA financial assistance to provide educational and training opportunities, in the form of internships, for students in the hazardous waste management field. These cooperative agreements will be awarded under Section 311(b)3 and (9) of the Comprehensive Environmental Response, Compensation and Liability Act and Section 8001 of the Solid Waste Disposal Act. This cooperative agreement would enable students to (1) gain knowledge of alternative or innovative treatment technologies and real work experience in the hazardous waste management field, and (2) earn academic credit.

Depending on the availability of funds, it is anticipated that a total of approximately $750,000 over five years, including direct and indirect costs, will be awarded in FY04. Proposals may request funding with a total project cost of up to $150,000 per year with a duration of up to five years. It is anticipated that OSWER would provide funding for up to fifteen (15) interns per summer, for a twelve-week summer internship, at a stipend of approximately $10,000 per intern. The project period, however, would run April to April of each year. Funding will only cover stipends and cannot be used to cover housing or student round-trip travel costs. Based on CERCLA statute 311(b)(3), EPA requires cost sharing at a minimum of 5%. The Catalogue of Federal Domestic Assistance (CFDA) is 66.607.

Eligibility Information: Only accredited four (4)-year educational institutions subject to OMB Circular A-21 and non-profit organizations, as defined in OMB Circular A-122, are eligible to apply. However, non-profit organizations described in Section 501(c)(4) of the Internal Revenue code that engage in lobbying activities as defined in Section 3 of the Lobbying Disclosure Act of 1995 are not eligible to apply. For profit training schools are not eligible.

Deadline to Submit Proposals: Proposals must be submitted no later than February 4, 2004. Please do not e-mail proposals.

Proposal Format Requirements: Proposal length is limited to fifteen (15) pages, with 1-inch margins, and no attachments.

ADDRESSES: Proposals must be mailed to:

1. Official Mailing Address: U.S. Environmental Protection Agency (EPA), Office of Solid Waste and Emergency Response (OSWER), Mail Code 5103T, 1200 Pennsylvania Avenue, NW., Washington, DC 20460, Attention: Nancy Allinson, Telephone Number: 202-566-1915. Fax Number: 202-566-1943.

AGENCY POINTS OF CONTACT:

Nancy Allinson, Project Officer, 202-566-1915 (tel), 202-566-1943 (fax), Nancy.Allinson@EPA.Gov(Eligibility/process issues)

Loren Danforth, Alternate Contact, 202-566-1921, Loren.Danforth@EPA.Gov.

Please submit all content-related questions to http://clu-in.org/proposals/oswerintern

I. Funding Opportunity Description

This document solicits cooperative agreement proposals from educational institutions and non-profit organizations that are interested in obtaining EPA financial assistance to provide educational and training opportunities for students in the hazardous waste management field. These cooperative agreements will be awarded under Section 311(b)3 and (9) of the Comprehensive Environmental Response, Compensation and Liability Act and Section 8001 of the Solid Waste Disposal Act. This cooperative agreement would enable students to (1) gain knowledge of alternative or innovative treatment technologies and real work experience in the hazardous waste management field, and (2) earn academic credit.

Since the inception of the summer internship program in 2000, OSWER has placed an average of approximately 10-15 students in internships at Headquarters and some Regional offices each year. Students who participate as interns come from culturally diverse backgrounds and have majors including engineering (e.g., civil, industrial, chemical and environmental) physics, information systems, general science, public policy, environmental science, economics, and international studies. Examples of projects are: preparing a technology assessment report about the current state of permeable reactive barriers (PRB's); collecting biennial report data and setting up a data base to store incoming queries; and, collecting information on successful Environmental Justice projects.

II. Award Information

1. Depending on the availability of funds, it is anticipated that a total of approximately $750,000 over five years, including direct and indirect costs, will be awarded in FY04. Proposals may request funding with a total project cost of up to $150,000 per year with a duration of up to five years. It is anticipated that OSWER would provide funding for up to fifteen (15) interns per summer, for a twelve-week summer internship, at a stipend of approximately $10,000 per intern. The project period, however, would run from April to April of each year. Funding will only cover stipends and cannot be used to cover housing or student round-trip travel costs. Based on CERCLA statute 311 (b) (3), EPA requires cost sharing at a minimum of 5%. The Catalogue of Federal Domestic Assistance (CFDA) is 66.607.

2. The resulting award will be a Cooperative Agreement. Cooperative Agreements involve substantial involvement between EPA Project Officer and the selected applicant. Anticipated substantial Federal involvement for this project will include:

a. The Project Officer will be part of the final evaluation of the interns for placement. The final decision rests with the recipient.

b. EPA's project officer will closely monitor the recipient's performance to ensure that Agency funding for stipends is used solely for that purpose.

III. Eligibility Information

1. Eligible Applicants:

Only accredited four (4)-year educational institutions subject to OMB Circular A-21 and non-profit organizations, as defined in OMB Circular A-122, are eligible to apply. However, non-profit organizations described in Section 501 (c)(4) of the Internal Revenue code that engage in lobbying activities as defined in Section 3 of the Lobbying Disclosure Act of 1995 are not eligible to apply. For profit training schools are not eligible.

2. Cost-Sharing or Matching: Based on CERCLA statute 311 (b) (3), EPA requires cost sharing at a minimum of 5%.

3. Other: Only one proposal per applicant is permitted under this announcement.

IV. Proposal Submission Information

1. Official Mailing Address:

U.S. Environmental Protection Agency (EPA), Office of Solid Waste and Emergency Response (OSWER), Mail Code 5103T, 1200 Pennsylvania Avenue, NW., Washington, DC 20460, Attention: Nancy Allinson. Telephone Number: 202-566-1915, Fax Number: 202-566-1943.

2. Proposal Format:

The proposal must conform to the following outline:

1. Title of Proposal

2. Applicant (Organization) and contact name, phone number, fax and e-mail address

3. Summary of funds requested by EPA

4. Project period: beginning and ending dates (for planning purposes, applicants should assume funds will be available in April 2004)

5. Project work plan (including a description of all tasks, dates of completion, products and deliverables, and proposed budget)

6. Evaluation plan

7. Student application processing and evaluation plan

8. Process plan for management/training of students

9. Tracking plan

10. Report schedule: Acknowledgment of quarterly report requirement (schedule established by EPA) and planned final report submission date

11. Budget (Please provide with a narrative explanation for the following categories):

—Personnel

—Fringe Benefits

—Contractual Costs

—Travel

—Equipment

—Supplies

—Other

—Shared or Matched Costs

—Total Direct Costs

—Total Indirect Costs (must include documentation of accepted indirect rate)

—Total Cost

Costs proposed in the budget must be linked directly to the proposal. Note: Proposal length is limited to fifteen (15) pages, with 1-inch margins, and no attachments.

3. Program Design:

EPA anticipates student stipends to be approximately $10,000 per intern for a twelve (12) week internship per summer from June to August with approximately fifteen (15) interns per internship. Applicants should describe the following in detail in proposals:

• Cultural Diversity: Mechanisms in place to enhance cultural diversity within student population, and a strong network of student organizations geared to providing career and employment information and academic advice.

• U.S. Citizenship: According to EPA's training grant regulations cited in 40 CFR 45.135(a), interns, who are grant funded trainees, must be citizens of the U.S. or of its territories or possessions, or must be lawfully admitted to the U.S. for permanent residence. Applicants must specify the percentage of their student population that meets that requirement.

• Stipends: Ability to process student stipends.

• Reporting and Recordkeeping: Ability to maintain records of students according to major, project summary, dates of internship, and any other pertinent information to be used in final reports.

• Student Application Processing and Evaluation: Recipients must have a system to process and evaluate applications. At a minimum, the application process must evaluate potential interns on the basis of their computer skills, academic record, awards and writing skills. Students must have a grade point average of 2.5 or higher to meet eligibility requirements at EPA.

• Eligibility Requirements for Internships: Students must be enrolled in a four year accredited college or university. Students enrolled in a four year college or university must have achieved at least second semester sophomore standing, or have completed 45 credit hours of academic study.

• Student Application Process: Applicants should describe development of a tracking system for students, internship management, and how they foresee interaction with EPA.

• Formal program in place or experience in administering a student internship program, especially with a Federal agency or department, and experience with Federally funded grants programs.

• Applicants should describe training for students (i.e., environmental, math, science courses).

4. Proposal Submission Deadline: Proposals must be submitted no later than February 4, 2004. Please do not e-mail proposals.

V. Proposal Review Information

1. Criteria/Scope:

Criteria | Points
—Effectiveness of overall work plan, including evaluation plan and time-frame, that is detailed and reasonable. Additionally, a clearly-stated detailed and appropriate budget should be included | 32
—Formal program in place or experience in administering a student internship program, especially with a Federal agency or department, and experience with Federally funded grants programs. Successful applicant should have an overall familiarity with Federal government operations as well as have the ability to process stipends, a system for reporting and record keeping, and the capacity for processing and evaluating student applications. Applicants must identify and explain any adverse Federal audit findings or terminations of grants, or special terms and conditions imposed on grants within the last five (5) years | 24
—Proximity of 50-100 mile radius to the Washington-Metropolitan area | 12
—Formal curricula in civil, chemical, electrical engineering and industrial engineering as well as the natural and physical sciences, computer science, business and public administration. Academic departments that are developing new curricula with an emphasis in environmental engineering with courses focusing on hazardous waste management, hydrology and water resources, remediation, and renewable natural resources | 32
Total points possible | 100
(Note: points assigned to each criterion are the maximum number of points applicant can receive).

2. Review and Selection Process:

Proposals submitted to EPA headquarters will be evaluated using the defined criteria. Proposals will be reviewed in two phases—the screening phase and the evaluation phase. During the screening phase, proposals will be reviewed to be determined whether they meet the basic requirements of this document. Only those proposals that meet all of these basic requirements will enter the full evaluation phase of the review process. During the evaluation phase, proposals will be evaluated on the quality of their work plans. EPA officials, who will serve as reviewers, will conduct the screening and evaluation phases of the review process. At the conclusion of the evaluation phase, the reviewers will score work plans, on a one hundred point scale. EPA senior Agency management will consider the reviewers' recommended rankings, along with other special considerations, such as the number of eligible students in the school's population. EPA will ask the applicant selected by senior management to select a complete application package by March 1, 2004. We reserve the right to make no awards.

VI. Award Administration Information

Award Notices:

The recipient of a selected proposal will be notified by a separate letter saying that the proposal has been selected and that a completed application must be submitted by the due date of March 1, 2004. After the application is received, it must be reviewed and approved by EPA. The grant award signed by EPA's Award Official is the legal document, which will be provided through postal mail or by electronic means.

Unsuccessful applicants will be notified by letter.

VII. Agency Contacts

Pre-application Assistance:

EPA will provide pre-application assistance by responding to all content-related questions (for example, technical questions pertaining to the EPA statutes (CERCLA and Solid Waste Disposal Act), grants management issues, or information to the Agency's approach to evaluating or ranking applications) which are submitted to the website http://clu-in.org/proposals/oswerintern.

Note: Applicants are responsible for the content of their applications and pre-application assistance must not in any way provide applicants with a competitive advantage. It is for this reason that all questions and answers can be viewed by the public on this website.

EPA points of contact, listed on next page, may provide pre-application assistance on process-related questions, via e-mail, (for example, eligibility requirements, deadlines, proposal format, etc.). Note: if applicants do not have e-mail capacity, it is permissible to call points of contact. Please note that EPA points of contact may not prepare applications, share ideas with an applicant that are contained in a competing application, review and comment on draft applications, or provide any information that is not already provided in the proposal solicitation.

Note: Receiving information and assistance from EPA does not guarantee funding.

Agency Contacts:

Nancy Allinson, Project Officer, 202-566-1915 (tel), 202-566-1943 (fax), Nancy.Allinson@EPA.Gov (Eligibility/process issues).

Loren Danforth, Alternate Contact, 202-566-1921, Loren.Danforth@EPA.Gov.

Dated: October 24, 2003.
Laurie J. May,
Director, Organizational Management and Integrity Staff (OMIS).

[FR Doc. 03-27951 Filed 11-5-03; 8:45 am]

BILLING CODE 6560-50-P